FEDERAL COMMUNICATIONS COMMISSION

[FRS 29460]

Federal Advisory Committee Act; Communications Security, Reliability, and Interoperability Council

AGENCY: Federal Communications Commission.

ACTION: Notice of re-establishment of the Communications Security, Reliability, and Interoperability Council.

SUMMARY: The Federal Communications Commission (Commission) hereby announces that the Communications Security, Reliability, and Interoperability Council (hereinafter CSRIC or Council) will be re-established for a two-year period pursuant to the Federal Advisory Committee Act (FACA) and in accordance with the Committee Management Secretariat, General Services Administration.

FOR FURTHER INFORMATION CONTACT: Suzon Cameron, Designated Federal Officer, Federal Communications Commission, Public Safety and Homeland Security Bureau, (202) 418-1916 or email: suzon.cameron@fcc.gov, or Kurian Jacob, Deputy Designated Federal Officer, Federal Communications Commission, Public Safety and Homeland Security Bureau, (202) 418-2040 or email: kurian.jacob@fcc.gov.

SUPPLEMENTARY INFORMATION: After consultation with the General Services Administration, the Commission intends to re-establish the charter on or before June 30, 2021, providing the Council with authorization to operate for two years.

The purpose of the Council is to advise the Commission and to make recommendations that foster the security, reliability, and interoperability of communications systems.

Advisory Committee

The CSRIC will be organized under, and will operate in accordance with, the provisions of the Federal Advisory Committee Act (FACA) (5 U.S.C. App. 2). The Council will be solely advisory in nature. Consistent with FACA and its requirements, each meeting of the Council will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairperson of the FCC, unless its charter is renewed prior to the termination date.

During the CSRIC's next term, it is anticipated that it will meet in Washington, DC, approximately four (4) times a year. The first meeting will be described in a Public Notice issued and published in the Federal Register at least fifteen (15) days prior to the first meeting date. In addition, as needed, working groups or subcommittees (ad hoc or steering) will be established to facilitate the Committee's work between meetings of the full Council. Meetings of the Council will be fully accessible to individuals with disabilities.

Federal Communications Commission.
Marlene Dortch,
Secretary.

[FR Doc. 2021-11684 Filed 6-2-21; 8:45 am]

BILLING CODE 6712-01-P